DEPARTMENT OF ENERGY

Federal Energy Regulatory Commission

Combined Notice of Filings #1

Take notice that the Commission received the following exempt wholesale generator filings:

Docket Numbers: ER11-2935-002.

Applicants: Paulding Wind Farm II LLC.

Description: Notice of Non-Material Change in Status of Paulding Wind Farm II LLC.

Filed Date: 08/09/2011.

Accession Number: 20110809-5147.

Comment Date: 5 p.m Eastern Time on Tuesday, August 30, 2011.

Docket Numbers: ER11-4264-000.

Applicants: New England Power Company.

Description: New England Power Company submits tariff filing per 35: Filing to Implement Settlement Agreement in Docket ER10-523 to be effective 3/31/2011.

Filed Date: 08/09/2011.

Accession Number: 20110809-5021.

Comment Date: 5 p.m Eastern Time on Tuesday, August 30, 2011.

Docket Numbers: ER11-4265-000.

Applicants: Midwest Independent Transmission System, ITC Midwest LLC.

Description: Midwest Independent Transmission System Operator, Inc. submits tariff filing per 35.13(a)(2)(iii): Notice of Succession for Interconnection Agreement to be effective 10/9/2011.

Filed Date: 08/09/2011.

Accession Number: 20110809-5038.

Comment Date: 5 p.m Eastern Time on Tuesday, August 30, 2011.

Docket Numbers: ER11-4266-000.

Applicants: Richland-Stryker Generation LLC.

Description: Richland-Stryker Generation LLC submits tariff filing per 35.12: Market Based Rate to be effective 9/26/2011.

Filed Date: 08/09/2011.

Accession Number: 20110809-5083.

Comment Date: 5 p.m Eastern Time on Tuesday, August 30, 2011.

Docket Numbers: ER11-4267-000.

Applicants: Algonquin Energy Services Inc.

Description: Algonquin Energy Services Inc. submits tariff filing per 35.12: AES Baseline Tariff to be effective 8/9/2011.

Filed Date: 08/09/2011.

Accession Number: 20110809-5092.

Comment Date: 5 p.m Eastern Time on Tuesday, August 30, 2011.

Docket Numbers: ER11-4268-000.

Applicants: Algonquin Northern Maine Gen Co.

Description: Algonquin Northern Maine Gen Co. submits tariff filing per 35.12: Algonquin Northern Baseline Tariff to be effective 8/9/2011.

Filed Date: 08/09/2011.

Accession Number: 20110809-5093.

Comment Date: 5 p.m Eastern Time on Tuesday, August 30, 2011.

Docket Numbers: ER11-4269-000.

Applicants: Algonquin Tinker Gen Co.

Description: Algonquin Tinker Gen Co. submits tariff filing per 35.12: Algonquin Tinker Baseline Tariff to be effective 8/9/2011.

Filed Date: 08/09/2011.

Accession Number: 20110809-5094.

Comment Date: 5 p.m Eastern Time on Tuesday, August 30, 2011.

Docket Numbers: ER11-4270-000.

Applicants: Algonquin Windsor Locks LLC.

Description: Algonquin Windsor Locks LLC submits tariff filing per 35.12: Algonquin Windsor Baseline Tariff to be effective 8/9/2011.

Filed Date: 08/09/2011.

Accession Number: 20110809-5095.

Comment Date: 5 p.m Eastern Time on Tuesday, August 30, 2011.

Docket Numbers: ER11-4271-000.

Applicants: El Paso Electric Company.

Description: El Paso Electric Company submits tariff filing per 35.13(a)(2)(iii): Rate Schedule No. 108 EPE Eng. & Proc. Agreement to be effective 8/6/2011.

Filed Date: 08/09/2011.

Accession Number: 20110809-5118.

Comment Date: 5 p.m Eastern Time on Tuesday, August 30, 2011.

Docket Numbers: ER11-4272-000.

Applicants: Midwest Independent Transmission System, ITC Midwest LLC.

Description: Midwest Independent Transmission System Operator, Inc. submits tariff filing per 35.13(a)(2)(iii): Filing of Notice of Succession to be effective 10/10/2011.

Filed Date: 08/10/2011.

Accession Number: 20110810-5034.

Comment Date: 5 p.m Eastern Time on Wednesday, August 31, 2011.

Docket Numbers: ER11-4273-000.

Applicants: Midwest Independent Transmission System, ITC Midwest LLC.

Description: Midwest Independent Transmission System Operator, Inc. submits tariff filing per 35.13(a)(2)(iii): Filing of Notice of Succession to be effective 10/10/2011.

Filed Date: 08/10/2011.

Accession Number: 20110810-5035.

Comment Date: 5 p.m Eastern Time on Wednesday, August 31, 2011.

Take notice that the Commission received the following qualifying facility filings:

Docket Numbers: QF11-399-000.

Applicants: Graphic Packaging International Inc.

Description: Form 556 of Graphic Packaging International Inc., for self certification of cogeneration facilities at Graphic Packaging Paperboard Mill in Macon, GA.

Filed Date: 07/12/2011.

Accession Number: 20110712-5018.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2011.
Kimberly D. Bose,
Secretary.

[FR Doc. 2011-20976 Filed 8-16-11; 8:45 am]

BILLING CODE 6717-01-P